FEDERAL COMMUNICATIONS COMMISSION

47 CFR Part 73

[DA 06-1406; MB Docket No. 05-139; RM-11218]

Radio Broadcasting Services; Americus and Emporia, KS

AGENCY: Federal Communications Commission.

ACTION: Final rule.

SUMMARY: The Audio Division, at the request of Dana J. Puopolo, allots Channel 240A at Americus, Kansas, as the community's first local FM service. In order to accommodate that allotment, the Audio Division also substitutes Channel 244A for Channel 241A at Emporia, Kansas, and modifies the license of Station KANS(FM) to specify operation on Channel 244A at Emporia, Kansas. Channel 240A can be allotted at Americus, Kansas, in compliance with the Commission's minimum distance separation requirements with a site restriction of 12.5 km (7.8 miles) southwest of Americus. The coordinates for Channel 240A at Americus, Kansas, are 38-25-13 North Latitude and 96-21-12 West Longitude. Channel 244A can be substituted for Channel 241A at the current transmitter location for Station KANS(FM): 38-24-21 North Latitude and 96-14-13 West Longitude, with a site location of 4.9 km (3.0 miles) west of Emporia.

DATES: Effective August 21, 2006.

FOR FURTHER INFORMATION CONTACT: Deborah Dupont, Media Bureau, (202) 418-2180.

SUPPLEMENTARY INFORMATION: This is a synopsis of the Commission's Report and Order, MB Docket No. 05-139, adopted July 5, 2006, and released July 7, 2006. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Section 73.202(b), the Table of FM Allotments under Kansas, is amended by adding Americus, Channel 240A, by removing Channel 241A and by adding Channel 244A at Emporia.

Federal Communications Commission.
John A. Karousos,
Assistant Chief, Audio Division, Media Bureau.

[FR Doc. E6-11467 Filed 7-18-06; 8:45 am]

BILLING CODE 6712-01-P